DEPARTMENT OF THE INTERIOR

Bureau of Indian Affairs

Final Programmatic Environmental Impact Statement for the Proposed Navajo Ten-Year Forest Management Plan, Navajo Nation, Arizona/New Mexico

AGENCY: Bureau of Indian Affairs, Interior.

ACTION: Notice; Reopening of comment period.

SUMMARY: This notice reopens the public comment period published in the Federal Register on May 12, 2000 (65 FR 30605) for the Final Programmatic Environmental Impact Statement (FPEIS) for the Proposed Navajo Ten-Year Forest Management Plan, Navajo Nation, Arizona/New Mexico. The new public comment period closes on June 30, 2000. Except for the closing date for the public comment period, the information on the FPEIS published in the Federal Register on April 14, 2000 (65 FR 20197) remains unchanged.

DATES: The date by which written comments must arrive is June 30, 2000.

FOR FURTHER INFORMATION CONTACT: Harold D. Russell, (520) 729-7228.

Dated: May 25, 2000.
Kevin Gover,
Assistant Secretary—Indian Affairs.

[FR Doc. 00-13661 Filed 5-31-00; 8:45 am]

BILLING CODE 4310-01-P